DEPARTMENT OF TRANSPORTATION

Federal Transit Administration

[FTA Docket No. FTA 2019-0018]

Agency Information Collection Activity Under OMB Review

AGENCY: Federal Transit Administration, DOT.

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before November 4, 2019.

ADDRESSES: All written comments must refer to the docket number that appears at the top of this document and be submitted to the Office of Information and Regulatory Affairs, Office of Management and Budget, 725 17th Street NW, Washington, DC 20503, Attention: FTA Desk Officer. Alternatively, comments may be sent via email to the Office of Information and Regulatory Affairs (OIRA), Office of Management and Budget, at the following address: oira_submissions@omb.eop.gov.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590 (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On July 2, 2019, FTA published a 60-day notice (84 FR 31657) in the Federal Register soliciting comments on the ICR that the agency was seeking OMB approval. FTA received one comment after issuing this 60-day notice. The comment was from the Michigan Department of Transportation (MDOT) Docket #FTA-0008-0001. The comment states: “MDOT supports the continued collection of bus testing information by the Thomas D. Larson Pennsylvania Transportation Institute (LTI) with the following concerns: (1) Timeliness of testing on new or updated bus bodies and OEM vehicle chassis, test completion can take up to a year or more in some instances; (2) Communication of testing delays to recipients. Explanation of delays doesn't seem to be provided to bus manufacturers or chassis OEMs; (3) Increased testing capacity. With the increase in Federal emissions and fuel economy standards, OEMs are continually introducing new engine and transmission combinations that require new tests. Adding staff or opening additional test facilities may help alleviate this issue. The LoNo test facilities at Ohio State University and Auburn University may be an option to help assist in the testing of traditional buses if allowed, which would shorten test delays.” FTA's responded by stating, “FTA acknowledges that improvements can be made in the application response process. In an effort to address these issues, this information is working on a web-based test form for bus testing determinations and approvals with the purpose of not only improving request turn arounds, but increasing transparency where submitters will be provided real-time updates with the status of their applications. The purpose of the PRA is to provide an estimate of time burdens associated with the preparation of a determination and/or and approval request. The time burdens consider all the technical and legal advisors involved in the process of gathering information to prepare and submit an application. Unfortunately, addressing the duration of tests, how many tests are performed, and any modification to 49 CFR 665 is outside of the scope of this document. We appreciate MDOT's comments and encourage to submit any suggestions and/or recommended amendments following applicable protocols established in 49 CFR 601, “Organization, Functions, and Procedures”. In addition, FTA will be hosting a Bus Maintenance and Bus Testing Peer-to-Peer Exchange in October 2019, to engage the vehicle manufacturers industry, encourage an open dialogue, and address areas of improvement within the Bus Testing Program. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA.

Title: Bus Testing Program.

OMB Control Number: 2132-0550.

Type of Request: Renewal of a previously approved information collection.

Abstract: 49 U.S.C. Section 5318(e) provides that Federal funds appropriated or otherwise made available under 49 U.S.C. Chapter 53 [FTA funding] may not be obligated or expended for the acquisition of a new bus model unless a bus of that model has been tested for maintainability, reliability, safety, performance (including braking performance), structural integrity, fuel economy, emissions, and noise at a bus testing facility authorized under 49 U.S.C. Section 5318(a).

At this time, there is one active Bus Testing Center operated by the Thomas D. Larson Pennsylvania Transportation Institute of the Pennsylvania State University (LTI). LTI operates and maintains the Center under a cooperative agreement with FTA, and establishes and collects fees for the testing of the vehicles at the facility. Two additional bus testing facilities authorized to test low and no-emission (LoNo) buses have been authorized by Congress. FTA is working with Auburn University and The Ohio State University to establish those facilities, which are not yet operational. The nature and quantity of the information that must be collected to operate the Bus Testing Program will not change significantly when these additional centers become operational. Auburn and Ohio State separately received appropriations to conduct testing of components for LoNo buses. Those projects are separate from Bus Testing and FTA does not expect them to affect the paperwork burden for the Bus Testing Program. Upon completion of the testing of the vehicle at the Center with a passing test score, a draft Bus Testing Report is provided to the manufacturer of the new bus model. If the manufacturer approves the Report for publication, the bus model becomes eligible for FTA funding. 49 CFR 665.7 requires a recipient of FTA funds to certify that a bus model has been tested at the bus testing facility, that the bus model received a passing score, and that the recipient has a copy of the applicable Bus Testing Report(s) on a bus model before final acceptance of any buses of that model. Recipients are strongly encouraged to review the Bus Testing Report(s) relevant to a bus model before final acceptance and/or selection of that bus model.

Respondents: Bus manufacturers and recipients of FTA funds.

Estimated Annual Number of Respondents: 60 (40 testing determination requirements requests at 32 hours each, 20 testing authorization requests at 32 hours each, 16 tests scheduled at 10 hours each, and 3 retest requests at 17 hours each).

Estimated Total Annual Burden: 2,131 hours.

Frequency: On Occasion.

Nadine Pembleton,
Director, Office of Management Planning.

[FR Doc. 2019-21545 Filed 10-2-19; 8:45 am]

BILLING CODE 4910-57-P